DEPARTMENT OF THE INTERIOR

Fish and Wildlife Service

50 CFR Part 17

Endangered and Threatened Wildlife and Plants; 90-Day Finding on a Petition To List a Karst Meshweaver, Cicurina cueva, as an Endangered Species

AGENCY: Fish and Wildlife Service, Interior.

ACTION: Proposed Rule; reopening of public comment period.

SUMMARY: We, the U.S. Fish and Wildlife Service (Service), announce the reopening of the public comment period for the status review initiated by the 90-day finding on a petition to list Cicurina cueva as an endangered species (February 1, 2005; 70 FR 5123). This action will allow all interested parties an opportunity to provide information on the status of the species under the Endangered Species Act of 1973, as amended (Act).

DATES: Comments must be submitted directly to the Service (see ADDRESSES section) on or before June 22, 2005. Any comments received after the closing date may not be considered in the 12-month finding.

ADDRESSES: If you wish to comment, you may submit your comments and materials by any one of the following methods:

1. You may submit written comments and information by mail to Robert Pine, Field Supervisor, Austin Ecological Services Field Office, 10711 Burnet Road, Suite # 200, Austin, Texas 78758.

2. You may hand-deliver written comments and information to our Austin Ecological Services Field Office, at the above address, or fax your comments to 512-490-0974.

All comments and materials received, as well as supporting documentation used in preparation of the 90-day finding, will be available for public inspection, by appointment, during normal business hours at our Austin Ecological Services Field Office at the above address.

FOR FURTHER INFORMATION CONTACT: Robert Pine, Field Supervisor, Austin Ecological Services Office (telephone 512-490-0057, facsimile 512-490-0974).

SUPPLEMENTARY INFORMATION:

Background

Section 4(b)(3)(B) of the Act requires that for any petition to revise the List of Threatened or Endangered Species that contains substantial scientific and commercial information that listing may be warranted, we make a finding within 12 months of the date of the receipt of the petition on whether the petitioned action is (a) not warranted, or (b) warranted, or (c) warranted but the immediate proposal of a regulation is precluded by other pending proposals to determine whether any species is threatened or endangered.

On July 8, 2003, we received a petition requesting that we list Cicurina cueva (no common name) as an endangered species with critical habitat. On May 25, 2004, Save Our Springs Alliance (SOSA) filed a complaint against the Secretary of the Interior and the Service for failure to make a 90-day petition finding under section 4 of the Act for Cicurina cueva. In our response to Plaintiff's motion for summary judgment on October 15, 2004, we informed the court that we believed that we could complete a 90-day finding by January 20, 2005, and if we determined that the 90-day finding provided substantial information that listing may be warranted, we could make a 12-month finding by December 8, 2005. On March 18, 2005, the District Court for the Western District of Texas, Austin Division, adopted our schedule and ordered the Service to issue a 12-month finding on or before December 8, 2005.

On February 1, 2005 (70 FR 5123), we published a 90-day finding and initiation of status review on a petition to list Cicurina cueva as an endangered species. Our 90-day finding stated that we found the petition presented substantial scientific and commercial information indicating that listing Cicurina cueva may be warranted. Additional background information, including information on the species, factors affecting the species, and our 90-day finding, is available in the February 1, 2005, publication. The comment period for providing information for our status review closed on May 15, 2005.

Pursuant to 50 CFR 424.16(c)(2), we may extend or reopen a comment period upon finding that there is good cause to do so. We are currently gathering information that will be used in making a determination whether Cicurina cueva should be listed as endangered. It is our intention to extend the public comment period as additional information from a genetic analysis and additional survey work for Cicurina species in southern Travis County became available near the end of the original comment period and information from the Texas Department of Transportation and the Regents School of Austin are in progress and may not be completed by May 15, 2005. The report is titled, “Genetic and morphological analysis of species limits in Cicurina spiders (Araneae, Dictynidae) from southern Travis and northern Hays counties, with emphasis on Cicurina cueva Gertsch and relatives.” We believe these documents contain significant information that may effect our determination of the status of the species and allowing the comment period to expire before they are available could result in hurried and incomplete comments. We deem these considerations as sufficient cause to reopen the comment period. This reopening of the comment period will not result in an extension of the court-ordered date by which the Service must make its 12-month finding.

Public Comments Solicited

We are required by court order to make a 12-month finding on whether to list Cicurina cueva by December 8, 2005. To meet this date, all information on the status of the species must be submitted by June 22, 2005, as specified in the DATES section of this document.

Our practice is to make comments, including names and home addresses of respondents, available for public review during regular business hours. Individual respondents may request that we withhold their home address, which we will honor to the extent allowable by law. If you wish us to withhold your name or address, you must state this request prominently at the beginning of your comments. However, we will not consider anonymous comments. To the extent consistent with applicable law, we will make all submissions from organizations or businesses, and from individuals identifying themselves as representatives or officials of organizations or businesses, available for public inspection in their entirety.

Comments and materials received, as well as supporting documentation used in preparation of the 12-month finding, will be available for public inspection, by appointment, during normal business hours at the Austin Ecological Services Field Office (see ADDRESSES section).

Authority

The authority for this action is the Endangered Species Act of 1973, as amended (16 U.S.C. 1531 et seq.).

Dated: May 13, 2005.
Marshall Jones Jr.,
Acting Director, Fish and Wildlife Service.

[FR Doc. 05-10245 Filed 5-20-05; 8:45 am]

BILLING CODE 4310-55-P